COMMITTEE FOR PURCHASE FROM PEOPLE WHO ARE BLIND OR SEVERELY DISABLED

Procurement List; Additions and Deletions

AGENCY: Committee for Purchase from People Who Are Blind or Severely Disabled.

ACTION: Additions to and Deletions from Procurement List.

SUMMARY: This action adds to the Procurement List services to be furnished by nonprofit agencies employing persons who are blind or have other severe disabilities, and deletes from the Procurement List products previously furnished by such agencies.

EFFECTIVE DATE: June 15, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION:

Additions

On December 27, 2002, and March 21, 2003, the Committee for Purchase From People Who Are Blind or Severely Disabled published notice (67 FR 79045, and 68 FR 13895) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

Accordingly, the following services are added to the Procurement List:

Services

Service Type/Location: Document Destruction, Aberdeen Proving Ground, Northeast Civilian Personnel Operation Center, Aberdeen Proving Ground, Maryland.

NPA: The Arc Northern Chesapeake Region, Incorporated, Aberdeen, Maryland.

Contract Activity: Northeast Civilian Personnel Operation Center, Aberdeen Proving Ground.

Service Type/Location: Janitorial/Custodial, U.S. Army Corps of Engineers, Saylorville Lake Project, Johnston, Iowa.

NPA: Goodwill Solutions, Inc., Des Moines, Iowa.

Contract Activity: U.S. Army Corps of Engineers—Contracting Div, Rock Island, Illinois.

Deletions

On March 14, 2003, the Committee for Purchase From People Who Are Blind or Severely Disabled published notice (68 F.R. 12340) of proposed deletions to the Procurement List. After consideration of the relevant matter presented, the committee has determined that the products listed below are no longer suitable for procurement by the Federal Government under 41 U.S.C. 46-48c and 41 CFR 51-2.4.

I certify that the following action will not have a significant impact on a substantial number of small entities. The major factors considered for this certification were:

1. The action may not result in any additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

Accordingly, the following products are deleted from the Procurement List:

Products

Product/NSN: Case, Plotting Board, 1220-01-055-6137.

NPA: North Bay Rehabilitation Services, Inc., Rohnert Park, California.

Contract Activity: Department of the Army, Rock Island, Illinois.

Product/NSN: Patient Utility Kit 6530-01-166-3499.

NPA: CCI Enterprises, Inc., Milwaukie, Oregon.

Contract Activity: Defense Supply Center Philadelphia, Philadelphia, Pennsylvania.

Sheryl D. Kennerly,
Director, Information Management.

[FR Doc. 03-12288 Filed 5-15-03; 8:45 am]

BILLING CODE 6353-01-P